DEPARTMENT OF ENERGY

Federal Energy Regulatory Commission

[Docket No. CP04-85-000]

Southern Star Central Gas Pipeline, Inc.; Notice of Application

March 24, 2004.

Take notice that on March 18, 2004, Southern Star Central Gas Pipeline, Inc. (Southern Star), 3800 Frederica Street, Owensboro, Kentucky 42301, filed in Docket No. CP04-85-000 an application pursuant to section 7(b) of the Natural Gas Act (NGA) for permission and approval to abandon compression facilities located in Kiowa County, Kansas.

Southern Star states that it proposes to abandon seven 1600 horsepower engines, appurtenant facilities and auxiliary equipment at the Greensburg compressor station in Kiowa County, Kansas. Southern Star states that the Greensburg station was constructed in 1951 and used to compress gas on the Kansas-Hugoton 26-inch pipeline to Kansas City, Missouri. Southern Star states that the engines are now obsolete and no longer needed since the compression currently available at the Hugoton compressor station in Grant County, Kansas, is more than sufficient to move current contractual volume obligations as well as any anticipated future volumes. Southern Star proposes to abandon above-ground facilities by reclaim with the exception of wells, well houses and a microwave tower. Southern Star further states that below-ground piping will be abandoned in place. Southern Star asserts that the station site is and will continue to be owned and maintained by Southern Star.

Any questions concerning this application may be directed to David N. Roberts, Manager, Regulatory Affairs, at (270) 852-4654.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2004.

Linda Mitry,
Acting Secretary.

[FR Doc. E4-703 Filed 3-30-04; 8:45 am]

BILLING CODE 6717-01-P